DEPARTMENT OF ENERGY

Federal Energy Regulatory Commission

[Project No. 12470-001]

City of Broken Bow, Oklahoma; Notice Soliciting Comments and Final Terms and Conditions, Recommendations, and Prescriptions

September 19, 2007.

Take notice that the following hydroelectric application and applicant-prepared environmental assessment have been filed with the Commission and are available for public inspection.

a. Type of Application: Original Major License.

b. Project No.: 12470-001.

c. Date filed: July 26, 2006.

d. Applicant: City of Broken Bow, Oklahoma.

e. Name of Project: Broken Bow Re-Regulation Dam Hydropower Project.

f. Location: On the Mountain Fork River in McCurtain County, Oklahoma. The project would be located at the United States Army Corps of Engineers' (Corps) Broken Bow Re-Regulation Dam and would occupy lands administered by the Corps.

g. Filed Pursuant to: Federal Power Act, 16 U.S.C. 791 (a)—825(r).

h. Applicant Contact: Olen Hill, City Manager, City of Broken Bow, Oklahoma, 210 North Broadway, Broken Bow, Oklahoma 74728; (405) 584-2282.

i. FERC Contact: Peter Leitzke at (202) 502-6059, or peter.leitzke@ferc.gov.

j. Deadline for filing comments, and final terms and conditions, recommendations, and prescriptions: 60 days from the issuance of this notice. All reply comments must be filed with the Commission within 105 days from the date of this notice.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments, terms and conditions, recommendations, and prescriptions may be filed electronically via the Internet in lieu of paper. The Commission strongly encourages electronic filings. See 18 CFR 385.2001(a)(1)(iii) and the instructions on the Commission's Web site (http://www.ferc.gov) under the “e-Filing” link.

k. This application has been accepted.

l. The proposed run-of-river project, using the Corps' existing Broken Bow Re-Regulation Dam and Reservoir, would consist of: (1) Three 93.5-foot-long penstocks through the eastern portion of the re-regulation dam; (2) a 112-foot-wide by 129-foot-long powerhouse containing three turbine-generator units, having a total installed capacity of 4 megawatts; (3) a 170-foot-long tailrace that would return flows to the Mountain Fork River; (4) a 1,891-foot-long, 13.8-kilovolt transmission line; and (5) appurtenant facilities. The project would have an average annual generation of 17,500 megawatt-hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must: (1) Bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov.esubscribenow.htm to be notified via e-mail of new filings and issuances related to this or other pending projects. For assistance, contact FERC Online Support.

n. Procedural Schedule: The Commission staff proposes to issue a single Environmental Assessment (EA) rather than issuing a draft and final EA. Staff intends to allow at least 30 days for entities to comment on the EA. The Commission will take into consideration all comments received on the EA before taking final action on the license application. The application will be processed according to the following schedule, but revisions to the schedule may be made as appropriate:

Issue Notice of availability of the EA: March 2008.

o. A license applicant must file no later than 60 days following the date of issuance of this notice: (1) A copy of the water quality certification; (2) a copy of the request for certification, including proof of the date on which the certifying agency received the request; or (3) evidence of waiver of water quality certification.

Kimberly D. Bose,
Secretary.

[FR Doc. E7-18906 Filed 9-25-07; 8:45 am]

BILLING CODE 6717-01-P